DEPARTMENT OF THE INTERIOR

National Park Service

[NPS-WASO-NAGPRA-20582; PPWOCRADN0-PCU00RP14.R50000]

Notice of Intent To Repatriate Cultural Items: U.S. Department of Defense Army Corps of Engineers, Omaha District, Omaha, NE and State Archaeological Research Center, Rapid City, SD

AGENCY: National Park Service, Interior.

ACTION: Notice.

SUMMARY: The U.S. Army Corps of Engineers, Omaha District (Omaha District), in consultation with the appropriate Indian tribes or Native Hawaiian organizations, has determined that the cultural items listed in this notice meet the definition of unassociated funerary objects. Lineal descendants or representatives of any Indian tribe or Native Hawaiian organization not identified in this notice that wish to claim these cultural items should submit a written request to the Omaha District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Omaha District at the address in this notice by May 5, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3005, of the intent to repatriate cultural items under the control of the Omaha District, Omaha, NE., that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Cultural items consisting of 64 unassociated funerary objects were removed from site 39CA4, the Anton Rygh Site, in Campbell County, SD. They are presently located at the South Dakota State Archaeological Research Center (SARC) and are under the control of the Omaha District.

The Anton Rygh site was a large fortified village on the east bank of the Missouri River and first reported by W.H. Over Museum in the 1920s. Excavations at the site began in 1932, and over the course of the next 50 years, over 100 individuals have reportedly been removed from the site. A minimum of 66 of these individuals were removed between 1957 and 1959 during excavations sponsored by the Smithsonian Institution River Basic Survey (RBS). A total of 15 individuals from the 1957 to 1959 excavations are stored at SARC and reported in a separate Notice of Inventory Completion.

SARC currently has 64 funerary objects from the RBS collections that are not associated with any individuals currently held by SARC and under control of the Omaha District. The excavation records clearly show these items as having been removed from the burial of a specific individual. These 64 unassociated funerary objects are 13 scapula bone hoes and knives, 1 bone awl, 1 bone whistle, 1 lithic biface, 1 lithic projectile point, 1 dog cranium, and 46 ceramic sherds.

The Anton Rygh site is a Plains Village Tradition multi-component earth lodge village. House structures, burials, cache pits, fortification features, and artifact types suggest at least two levels of occupation. The levels represent an extended Middle Missouri (A.D. 1000-1500) variant while the upper levels represent Extended (A.D. 1500-1675) and Post Contact (A.D. 1675-1780) Coalescent variants. Funerary objects were removed from burials throughout all levels of the site, but their temporal differentiation cannot be determined based on current records.

Archeological, anthropological, and physical anthropological evidence indicate the Extended Middle Missouri are ancestral Mandan, and the Extended Coalescent and Post Contact Coalescent are ancestral Arikara. Both the Mandan and Arikara are represented today by the Three Affiliated Tribes of the Fort Berthold Reservation. Consultation with the Three Affiliated Tribes of the Fort Berthold Reservation indicates that these objects represent the kinds of objects that are placed with individuals at the time of death.

Determinations Made by the Omaha District

Officials of the Omaha District have determined that:

• Pursuant to 25 U.S.C. 3001(3)(B), the 64 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Three Affiliated Tribes of the Fort Berthold Reservation, North Dakota.

Additional Requestors and Disposition

Lineal descendants or representatives of any Indian tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by May 5, 2016. After that date, if no additional claimants have come forward, transfer of control of the unassociated funerary objects to the Three Affiliated Tribes of the Fort Berthold Reservation, North Dakota.

The Omaha District is responsible for notifying the Three Affiliated Tribes of the Fort Berthold Reservation, North Dakota, that this notice has been published.

Dated: March 10, 2016.
Melanie O'Brien,
Manager, National NAGPRA Program.

[FR Doc. 2016-07770 Filed 4-4-16; 8:45 am]

BILLING CODE 4312-50-P